DEPARTMENT OF THE INTERIOR

Fish and Wildlife Service

50 CFR Part 17

[Docket No. FWS-R4-ES-2016-0096; 4500030115]

Endangered and Threatened Wildlife and Plants; 90-Day Findings on 10 Petitions; Correction

AGENCY: Fish and Wildlife Service, Interior.

ACTION: Correction.

SUMMARY: On September 14, 2016, we, the U.S. Fish and Wildlife Service (Service), published a document in the Federal Register announcing 90-day findings on 10 petitions to list, reclassify, or delist fish, wildlife, or plants under the Endangered Species Act of 1973, as amended. That document included a not-substantial finding for the Fourche Mountain salamander. The finding contained an incorrect range State, Arizona, for this species; the correct range State is Arkansas. With this document, we correct that error. If you sent a comment previously, you need not resend the comment.

DATES: Correction issued on September 21, 2016. To ensure that we will have adequate time to consider submitted information during the status reviews, we request that we receive information no later than November 14, 2016.

FOR FURTHER INFORMATION CONTACT: Andreas Moshogianis, (404) 679-7119. If you use a telecommunications device for the deaf, please call the Federal Information Relay Service at 800-877-8339.

SUPPLEMENTARY INFORMATION: In the Federal Register of September 14, 2016 (81 FR 63160), in FR Doc. 2016-22071, on page 63162, in the second column, correct the State under Species and Range from “Arizona” to “Arkansas”.

Dated: September 14, 2016.
Tina A. Campbell,
Chief, Division of Policy, Performance, and Management Programs, U.S. Fish and Wildlife Service.

[FR Doc. 2016-22558 Filed 9-20-16; 8:45 am]

BILLING CODE 4333-15-P